DEPARTMENT OF THE INTERIOR

Bureau of Land Management

[LLCAD06000 L51010000.ER0000 LVRWB09B2920 19X; MO 4500140990]

Notice of Availability of the Record of Decision for the Desert Quartzite Solar Photovoltaic Project, Riverside County, CA

AGENCY: Bureau of Land Management, Interior.

ACTION: Notice of availability.

SUMMARY: In accordance with the National Environmental Policy Act of 1969, as amended (NEPA), and the Federal Land Policy and Management Act of 1976, as amended, the Bureau of Land Management (BLM) has prepared a Record of Decision (ROD) to Authorize a Right-of-Way (ROW) and amend the California Desert Conservation Area (CDCA) Plan for the Desert Quartzite Solar Photovoltaic Project, and by this Notice is announcing its availability. This decision is subject to appeal under Departmental regulations.

DATES: The Acting Assistant Secretary for Land and Minerals Management signed the ROD on January 9, 2020.

ADDRESSES: Copies of the ROD are available for public inspection at the BLM-Palm Springs-South Coast Field Office at 1201 Bird Center Dr., Palm Springs, CA 92262, and at the BLM-California Desert District Office, 22835 Calle San Juan de Los Lagos, Moreno Valley, CA 92553. Interested persons may also review the ROD on the internet at: https://tinyurl.com/yy8o33ld.

FOR FURTHER INFORMATION CONTACT: Brandon G. Anderson, BLM Assistant District Manager, Project Support, telephone (951) 697-5215; address, Bureau of Land Management, California Desert District, 22835 Calle San Juan De Los Lagos, Moreno Valley, CA 92553; or email blm_ca_desert_quartzite_solar_project@blm.gov. Persons who use a telecommunications device for the deaf (TDD) may call the Federal Relay Service at (800) 877-8339 to contact Mr. Anderson normal business hours. The FRS is available 24 hours a day, 7 days a week, to leave a message or question. You will receive a reply during normal business hours.

SUPPLEMENTARY INFORMATION: Desert Quartzite, LLC, a wholly owned subsidiary of First Solar Inc., applied for a ROW from the BLM to construct, operate, maintain, and decommission a 450-megawatt (MW) solar photovoltaic facility near the City of Blythe, Riverside County, California. The proposed project footprint is about 3,800 acres. The proposed project also includes construction of a 2.7 mile 230 kilovolt generation interconnection (gen-tie) transmission line connecting the project to the Southern California Edison (SCE) Colorado River Substation. The BLM also considered an amendment to the CDCA Plan that would be necessary to authorize the project. This is a joint Environmental Impact Statement/Environmental Impact Report (EIS/EIR) for compliance with NEPA and the California Environmental Quality Act (CEQA). Riverside County is the lead agency under CEQA.

On August 8, 2018, the BLM issued the Draft EIS/EIR and Draft Land Use Plan Amendment, which analyzed the impacts of the Proposed Action and two action alternatives, in addition to a No Action Alternative. Alternative 2, Resource Avoidance Alternative, would be a 450 MW Photovoltaic (PV) array on about 2,800 acres. It reduces effects to portions of the sand corridor and cultural resources. Alternative 3, Reduced Project Alternative, would be a 285 MW solar PV project on about 2,100 acres. Like the Proposed Action, under each of these alternatives, the BLM would amend the CDCA Plan to allow the project. Under the No Action Alternative, the BLM would deny the ROW application, and would not amend the CDCA Plan to allow the project.

The Draft EIS/EIR and Draft Land Use Plan Amendment included analysis of the ROW application as it related to the following issues: (1) Impacts to cultural resources and tribal concerns; (2) Impacts to the sand transport corridor and Mojave fringe-toed lizard habitat and washes; (3) Impacts to BLM sensitive plants; (4) Impacts to avian species; (5) Impacts to visual resources; (6) Impact to air and water quality; and (7) Relationship between the proposed project and the CDCA Plan, as amended.

The Draft EIS/EIR and Draft Land Use Plan Amendment was available for a 90-day public comment period. The BLM held public meetings on September 26, 2018, and September 27, 2018, in Palm Desert and Blythe, CA respectively. Fourteen individuals attended the meeting on September 26, 2018, and 19 individuals attended the meeting on September 27, 2018. The BLM received two verbal comments during the September 27, 2018, public meeting and 22 comment letters during the comment period.

Comments on the Draft EIS/EIR and Draft Land Use Plan Amendment received from the public and internal agency review were considered and incorporated, as appropriate, into the Final EIS/EIR and Proposed Land Use Plan Amendment. Public comments resulted in the addition of clarifying text, but did not significantly change proposed land use plan decisions. A response to substantive comments is included in the Final EIS/EIR and Proposed Land Use Plan Amendment. Under Alternative 2 and Alternative 3, the gen-tie alignment was adjusted to avoid a potential conflict with a proposed transmission line project. The adjustment does not substantially change the environmental effects analysis. The BLM has selected Alternative 2, the Resource Avoidance Alternative, as the Agency Proposed Alternative in the Final EIS/EIR and Proposed Land Use Plan Amendment.

The publication of the Desert Quartzite Final EIS/EIR and Proposed Land Use Amendment initiated a 30-day protest period, which closed on October 28, 2019. The BLM received two protests. The BLM has considered and resolved the protests on the Desert Quartzite Solar Project Final EIS/EIR and Proposed Land Use Amendment. The BLM's protest resolution report to those protests can be found at https://www.blm.gov/programs/planning-and-nepa/public-participation/protest-resolution-reports.

In accordance with the regulations at 43 CFR 1610.3-2(e), the BLM submitted the Final EIS/EIR and Proposed Land Use Amendment for a 60-day Governor's Consistency Review on September 27, 2019. The Governor did not respond with any findings of inconsistency.

With this ROD, the BLM adopts the Agency Preferred Alternative and amends the CDCA Plan. Approval of these decisions constitutes the final decision of the Department of the Interior and, in accordance with the regulations at 43 CFR 4.410(a)(3), is not subject to appeal under Departmental regulations at 43 CFR part 4. Any challenge to these decisions, including the BLM Authorized Officer's issuance of the right-of-way as approved by this decision, must be brought in the Federal district court.

Joe Stout,
Acting State Director.

[FR Doc. 2020-00611 Filed 1-15-20; 8:45 am]

BILLING CODE 4310-40-P